FEDERAL ELECTION COMMISSION

Sunshine Act Notices

Agency: Federal Election Commission.

Date and Time: Tuesday, May 19, 2009, at 10 a.m.; Wednesday, May 20, 2009, at 10 a.m.

Place: 999 E Street, NW., Washington, DC.

Status: These meetings will be closed to the public.

Items to be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

* * * * *

Person to Contact for Information: Judith Ingram, Press Officer, Telephone: (202) 694-1220.

Mary W. Dove,
Secretary of the Commission.

[FR Doc. E9-11552 Filed 5-19-09; 8:45 am]

BILLING CODE 6715-01-M